DEPARTMENT OF HOMELAND SECURITY

Coast Guard

[CGD07-04-114]

Reorganization and Consolidation of The Greater Antilles Section (GANTSEC), Marine Safety Office (MSO) San Juan and Base San Juan

AGENCY: Coast Guard, DHS.

ACTION: Notice of organizational change.

SUMMARY: The Coast Guard announces the consolidation of The Greater Antilles Section (GANTSEC), Marine Safety Office (MSO) San Juan and Base San Juan into one command, Sector San Juan. The Sector San Juan Commanding Officer will have the authority, responsibility and missions of the Section Commander and Commanding Officer, Marine Safety Office (MSO). The Commanding Officer of Air Station Borinquen, formerly a GANTSEC command, will report to the Sector Commanding Officer. The Coast Guard has established a continuity of operations whereby all previous practices and procedures will remain in effect until superseded by an authorized Coast Guard official and/or document.

DATES: This notice is effective October 6, 2004.

ADDRESSES: Documents indicated in this preamble as being available in the docket are part of docket CGD07-04-114 and are available for inspection or copying at District 7 Resources, 9th Floor, 909 SE 1st Avenue, Miami, FL 33131 between 7:30 a.m. and 4:30 p.m., Monday through Friday, except Federal holidays.

FOR FURTHER INFORMATION CONTACT: Lieutenant Carlos A. Cuesta, District 7 Resources Program at 305-415-6706.

SUPPLEMENTARY INFORMATION:

Discussion of Notice

Sector San Juan will be composed of a Response Command, Prevention Command, and Logistics Command. All existing missions and functions performed by GANTSEC will be realigned under this new organizational structure as of September 30, 2004.

Sector San Juan will be responsible for all Coast Guard missions in the zone delineated in 33 CFR 3.35-25 as follows: “The San Juan Marine Inspection Zone and Captain of the Port Zone are comprised of both the Commonwealth of Puerto Rico and the Territory of the Virgin Islands and the adjacent waters to the outermost extent of the EEZ, subject to existing laws and regulations.” There will be no change to the San Juan Marine Inspection Zone, Captain of the Port Zone, and Search and Rescue (SAR) Boundaries as a result of this reorganization.

Sector San Juan is designated a rescue sub-center and, as such, is responsible as SAR Mission Coordinator for search and rescue operations both within and beyond the exclusive economic zone (EEZ) as specified in the Seventh District standard operating procedures.

The Sector San Juan Commander is vested with all the rights, responsibilities, duties, and authority of a Group Commander and Commanding Officer, Marine Safety Office, as provided for in Coast Guard regulations. The Sector San Juan Commander is designated: (a) Captain of the Port (COTP) for the San Juan COTP zone; (b) Federal Maritime Security Coordinator (FMSC); (c) Federal On Scene Coordinator (FOSC) for the San Juan COTP zone, consistent with the National Contingency Plan; (d) Officer In Charge of Marine Inspection (OCMI) for the San Juan Marine Inspection Zone and, (e) Search and Rescue Mission Coordinator (SMC). The Deputy Sector Commander is designated alternate COTP, FMSC, FOSC, OCMI and SMC. A continuity of operations order has been issued to address existing COTP regulations, orders, directives and policies.

The following information is a list of updated command titles, addresses and points of contact to facilitate requests from the public and assist with entry into security or safety zones:

Name: Sector San Juan.

Address: Commander, U.S. Coast Guard Sector San Juan, 5 Calle La Puntilla, San Juan, PR 00901-1800.

Contact: Operations Center, (787) 289-2040, Sector Commander: (787) 289-2399, Deputy Sector Commander: (305) 289-2300.

Dated: September 27, 2004.
D. B. Peterman,
Rear Admiral, U.S. Coast Guard, Commander, Seventh Coast Guard District.

[FR Doc. 04-22503 Filed 10-5-04; 8:45 am]

BILLING CODE 4910-15-P